DEPARTMENT OF THE INTERIOR

Bureau of Indian Affairs

Notice of Intent To Prepare a Supplemental Environmental Impact Statement for the Proposed Campo Solid Waste Landfill Facility on the Campo Indian Reservation, San Diego County, CA; Reopening of Comment Period

AGENCY: Bureau of Indian Affairs, Interior.

ACTION: Notice.

SUMMARY: This notice advises the public that the Bureau of Indian Affairs (BIA) is reopening the comment period on its Supplemental Environmental Impact Statement (SEIS) for the Proposed Campo Solid Waste Landfill Facility on the Campo Indian Reservation in San Diego County, California, for an additional 30 days. The Notice of Intent to prepare the SEIS, published in the Federal Register on November 8, 2005 (70 FR 67738), announced a closing date for comments of December 9, 2005.

DATES: Written comments for the new comment period must arrive by March 17, 2006.

ADDRESSES: You may mail or hand carry written comments to Clay Gregory, Regional Director, Pacific Regional Office, Bureau of Indian Affairs, 2800 Cottage Way, Sacramento, California 95825. Please include your name, return address and the caption, “SEIS, Campo Solid Waste Landfill Facility Proposal,” on the first page of your written comments.

FOR FURTHER INFORMATION CONTACT: John Rydzik, (916) 978-6042.

SUPPLEMENTARY INFORMATION: The proposed action is to approve a lease and sublease to allow a 1,150-acre portion of the Campo Indian Reservation to be used for the construction and operation of an approximately 600-acre solid waste landfill facility, with a buffer zone. Details on the proposed action and previous environmental analysis may be found in the above-referenced Notice published in the Federal Register on November 8, 2005.

Public Comment Availability

Comments, including names and addresses of respondents, will be available for public review at the BIA address shown in the ADDRESSES section, during business hours, 8 a.m. to 4:30 p.m., Monday through Friday, except holidays. Individual respondents may request confidentiality. If you wish to withhold your name and/or address from public review or from disclosure under the Freedom of Information Act, you must state this prominently at the beginning of your comment. Such requests will be honored to the extent allowed by the law. We will not, however, consider anonymous comments. All submissions from organizations or businesses, and from individuals identifying themselves as representatives or officials of organizations or businesses, will be available for public inspection in their entirety.

Authority

This notice is published in accordance with sections 1503.1, 1506.6 and 1508.22 of the Council on Environmental Quality Regulations (40 CFR parts 1500 through 1508) implementing the procedural requirements of the National Environmental Policy Act of 1969, as amended (42 U.S.C. 4321 et seq.), Department of the Interior Manual (516 DM 1-6), and is in the exercise of authority delegated to the Principal Deputy Assistant Secretary—Indian Affairs by 209 DM 8.1.

Dated: January 31, 2006.
Michael D. Olsen,
Principal Deputy Assistant Secretary—Indian Affairs.

[FR Doc. 06-1292 Filed 2-10-06; 8:45 am]

BILLING CODE 4310-W7-M